DEPARTMENT OF STATE

[Public Notice 6808]

Advisory Committee on International Postal and Delivery Services

AGENCY: Department of State.

ACTION: Notice; advisory committee meeting cancellation.

SUMMARY: The Department of State gives notice of cancellation of the meeting of the Advisory Committee on International Postal and Delivery Services scheduled for September 29, 2011, and announced in the Federal Register on Friday, September 2, 2011. The meeting will be rescheduled for a date to be announced in the future.

FOR FURTHER INFORMATION CONTACT: Laree Martin, Office of Global Systems (IO/GS), Bureau of International Organization Affairs, U.S. Department of State, at (202) 647-1526, Martinl@state.gov.

Dated: September 15, 2011.
Nerissa J. Cook,
Deputy Assistant Secretary, Bureau of International Organization Affairs, Department of State.

[FR Doc. 2011-24803 Filed 9-26-11; 8:45 am]

BILLING CODE 4710-19-P